DEPARTMENT OF THE INTERIOR

Bureau of Reclamation

South Coast Conduit/Upper Reach Reliability Project, Santa Barbara County, CA

AGENCY: Bureau of Reclamation, Interior.

ACTION: Notice of availability and notice of public meeting for the draft Environmental Impact Statement/Environmental Impact Report (EIS/EIR).

SUMMARY: The Bureau of Reclamation (Reclamation) is the National Environmental Policy Act (NEPA) Federal lead agency and the Cachuma Operation and Maintenance Board (COMB) is the California Environmental Quality Act (CEQA) State lead agency. Together, these agencies have made available for public review and comment the draft EIS/EIR.

The South Coast Conduit (SCC)/Upper Reach Project involves installation of a second water pipeline for improving water supply reliability to Cachuma Project (CP) and State Water Project (SWP) customers on the south coast of Santa Barbara County. This draft EIS/EIR addresses changes to the physical, natural, and human environment that would occur as a result of installing and operating the second pipeline.

DATES: Submit written comments on the draft environmental document on or before October 3, 2008.

A public meeting will be held on September 10, 2008 from 6 p.m. to 8 p.m. in Santa Barbara, CA to discuss the purpose and content of the draft environmental document and to provide the public an opportunity to comment on the draft environmental document. Written comments will be accepted at the public meeting.

ADDRESSES: Send written comments on the draft EIS/EIR to Ms. Judi Tapia, Bureau of Reclamation, 1243 ‘N’ Street, Fresno, CA 93721-1831, or Mr. Brett Gray, Cachuma Operation and Maintenance Board, 3301 Laurel Canyon Road, Santa Barbara, CA 93105-2017.

The public meeting will be held at the COMB office, 3301 Laurel Canyon Road, Santa Barbara, CA.

Copies of the draft document may be requested from Ms. Judi Tapia at 1243 ‘N’ Street, Fresno, CA 93721-1831, or at jtapia@mp.usbr.gov, or from Mr. Brett Gray, COMB, 3301 Laurel Canyon Road, Santa Barbara, CA 93105, or at bgray@cachuma-board.org.

The draft EIS/EIR is also accessible from the following Web sites: http://www.usbr.gov/mp/nepa/index.cfm or http://www.comb.org. See SUPPLEMENTARY INFORMATION section for locations where copies of the draft EIS/EIR are available.

FOR FURTHER INFORMATION CONTACT: Ms. Judi Tapia, Bureau of Reclamation, at 559-487-5138, TDD 559-487-5933, or Mr. Brett Gray, COMB, at 805-687-4401.

SUPPLEMENTARY INFORMATION: The existing SCC/Upper Reach pipeline provides approximately 80 percent of the water supply for communities along the South Coast of Santa Barbara County. Reclamation owns the SCC facilities and COMB manages the facilities under a Transfer of Operations and Maintenance Contract with Reclamation. The SCC operates at capacity for extended periods of time, and during peak demands it is not able to provide the water needed. No redundant supply or pipeline exists to convey CP or SWP water to the South Coast if the Upper Reach of the SCC is out of service due to scheduled and/or unexpected repairs. The proposed project would increase the operational flexibility, reliability, and conveyance capacity of the SCC between the South Portal of Tecolote Tunnel and the Corona Del Mar Water Treatment Plant to accommodate peak demand levels and to allow maintenance of one pipeline while the other is operational. The total amount of water delivered per year, however, would not increase.

The draft EIS/EIR considers the direct, indirect, and cumulative effects on the physical, natural, and human environment that may result from the construction and operation of the SCC/Upper Reach second pipeline. The draft EIS/EIR addresses potentially significant environmental issues and recommends adequate and feasible mitigation measures to reduce or eliminate significant environmental impacts, where possible. Two alternative pipeline alignments as well as no project and no action alternatives are addressed.

Copies of the draft EIS/EIR are available for public review at the following locations:

• Bureau of Reclamation, South-Central California Area Office, 1243 ‘N’ Street, Fresno, CA 93721-1831.

• Santa Barbara Central Public Library, 40 East Anapamu Street, Santa Barbara, CA 93101.

• Goleta Public Library, 500 North Fairview Avenue, Goleta, CA 93117.

• COMB office, 3301 Laurel Canyon Road, Santa Barbara, CA 93105-2017.

Special Assistance for Public Meetings

If special assistance is required at the public meeting, please contact Mr. Brett Gray, COMB, at 805-687-4401, or at bgray@cachuma-board.org, no less than five working days before the meeting to allow Reclamation/COMB to secure the needed services. If a request cannot be honored, the requestor will be notified.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: July 11, 2008.
Donald R. Glaser,
Regional Director, Mid-Pacific Region.

[FR Doc. E8-19246 Filed 8-19-08; 8:45 am]

BILLING CODE 4310-MN-P